DEPARTMENT OF THE INTERIOR

Fish and Wildlife Service

[FWS-R2-ES-2013-N069; FXES11130200000-145-FF02ENEH00]

Endangered and Threatened Species Permit Applications

AGENCY: Fish and Wildlife Service, Interior.

ACTION: Notice of receipt of applications; request for public comment.

SUMMARY: We, the U.S. Fish and Wildlife Service, invite the public to comment on the following applications to conduct certain activities with endangered or threatened species. The Endangered Species Act of 1973, as amended (Act), prohibits activities with endangered and threatened species unless a Federal permit allows such activities. Both the Act and the National Environmental Policy Act require that we invite public comment before issuing these permits.

DATES: To ensure consideration, written comments must be received on or before June 16, 2014.

ADDRESSES: Wendy Brown, Chief, Recovery and Restoration Branch, by U.S. mail at Division of Classification and Recovery, U.S. Fish and Wildlife Service, P.O. Box 1306, Albuquerque, NM 87103; or by telephone at 505-248-6920. Please refer to the respective permit number for each application when submitting comments.

FOR FURTHER INFORMATION CONTACT: Susan Jacobsen, Chief, Division of Classification and Restoration, by U.S. mail at P.O. Box 1306, Albuquerque, NM 87103; or by telephone at 505-248-6665.

SUPPLEMENTARY INFORMATION:

Public Availability of Comments

The Act (16 U.S.C. 1531 et seq.) prohibits activities with endangered and threatened species unless a Federal permit allows such activities. Along with our implementing regulations in the Code of Federal Regulations (CFR) at 50 CFR part 17, the Act provides for permits, and requires that we invite public comment before issuing these permits. A permit granted by us under section 10(a)(1)(A) of the Act authorizes applicants to conduct activities with U.S. endangered or threatened species for scientific purposes, enhancement of survival or propagation, or interstate commerce. Our regulations regarding implementation of section 10(a)(1)(A) permits are found at 50 CFR 17.22 for endangered wildlife species, 50 CFR 17.32 for threatened wildlife species, 50 CFR 17.62 for endangered plant species, and 50 CFR 17.72 for threatened plant species.

Applications Available for Review and Comment

We invite local, State, Tribal, and Federal agencies, and the public to comment on the following applications. Please refer to the appropriate permit number (e.g., Permit No. TE-123456) when requesting application documents and when submitting comments.

Documents and other information the applicants have submitted with these applications are available for review, subject to the requirements of the Privacy Act (5 U.S.C. 552a) and Freedom of Information Act (5 U.S.C. 552).

Permit TE-053083

Applicant: Julie Kutz, Albuquerque, New Mexico.

Applicant requests a renewal to a current permit for research and recovery purposes to conduct presence/absence surveys of southwestern willow flycatcher (Empidonax traillii extimus) within New Mexico.

Permit TE-30430B

Applicant: University of Houston—Clear Lake, Houston, Texas.

Applicant requests a new permit for research and recovery purposes to conduct presence/absence surveys of Rio Grande silvery minnow (Hybognathus amarus) and collect leaf clippings of Texas wild-rice (Zizania texana) within Texas.

Permit TE-71870A

Applicant: Western Area Power Administration, Phoenix, Arizona.

Applicant requests an amendment to a current permit for research and recovery purposes to conduct presence/absence surveys for southwestern willow flycatcher (Empidonax traillii extimus) and Yuma clapper rail (Rallus longirostris yumanensis) within California and Nevada.

Permit TE-060125

Applicant: Salt River Project, Phoenix, Arizona.

Applicant requests a renewal to a current permit for research and recovery purposes to conduct presence/absence surveys of southwestern willow flycatcher (Empidonax traillii extimus), Yuma clapper rail (Rallus longirostris yumanensis), and Gila topminnow (Poeciliopsis occidentalis occidentalis) within Arizona.

Permit TE-071287

Applicant: Bruce Christman, Albuquerque, New Mexico.

Applicant requests a renewal to an expired permit for research and recovery purposes to conduct presence/absence surveys of Jemez Mountains salamander (Plethodon neomexicanus) within New Mexico.

Permit TE-037155

Applicant: Bio-West, Inc., Round Rock, Texas.

Applicant requests a renewal to a current permit for research and recovery purposes to conduct presence/absence surveys of the following species in various States, including California, Colorado, Nevada, New Mexico, Texas, and Utah (where appropriate):

• Colorado pikeminnow (Ptychocheilus lucius).

• Comal Springs dryopid beetle (Stygoparnus comalensis).

• Comal Springs riffle beetle (Heterelmis comalensis).

• Fountain darter (Etheostoma fonticola).

• Peck's Cave amphipod (Stygobromus pecki).

• Razorback sucker (Xyrauchen texanus).

• Rio Grande silvery minnow (Hybognathus amarus).

• San Marcos gambusia (Gambusia georgei).

• San Marcos salamander (Eurycea nana).

• Southwestern willow flycatcher (Empidonax traillii extimus).

Permit TE-830213

Applicant: EcoPlan Associates, Inc., Mesa, Arizona.

Applicant requests an amendment to a current permit for research and recovery purposes to conduct presence/absence surveys of southwestern willow flycatcher (Empidonax traillii extimus) and Yuma clapper rail (Rallus longirostris yumanensis) within California and Nevada.

Permit TE-798998

Applicant: Horizon Environmental Services, Inc., Austin, Texas.

Applicant requests a renewal to a current permit for research and recovery purposes to conduct presence/absence surveys of the following species within Texas:

• Bee Creek Cave harvestman (Texella reddelli).

• Black-capped vireo (Vireo atricapilla).

• Bone Cave harvestman (Texella reyesi).

• Braken Bat Cave meshweaver (Cicurina venii).

• Coffin Cave mold beetle (Batrisodes texanus).

• Cokendolpher Cave harvestman (Texella cokendolpheri).

• Golden-cheeked warbler (Dendroica chrysoparia).

• Government Canyon Bat Cave meshweaver (Cicurina vespera).

• Government Canyon Bat Cave spider (Neoleptoneta microps).

• Ground beetle (Unnamed) (Rhadine exilis).

• Ground beetle (Unnamed) (Rhadine infernalis).

• Helotes mold beetle (Batrisodes venyivi).

• Interior least tern (Sterna antillarum).

• Kretschmarr Cave mold beetle (Texamaurops reddelli).

• Madla Cave meshweaver (Cicurina madla).

• Robber Baron Cave meshweaver (Cicurina baronia).

• Tooth Cave ground beetle (Rhadine persephone).

• Tooth Cave pseudoscorpion (Tartarocreagris texana).

• Tooth Cave spider (Neoleptoneta (=Leptoneta) myopica).

Permit TE-084473

Applicant: Pueblo of Santa Ana, Santa Ana Pueblo, New Mexico.

Applicant requests a renewal to a current permit for research and recovery purposes to conduct presence/absence surveys for southwestern willow flycatcher (Empidonax traillii extimus) within New Mexico.

Permit TE-819541

Applicant: Ecosystems Management, Inc., Albuquerque, New Mexico.

Applicant requests a renewal to a current permit for research and recovery purposes to conduct presence/absence surveys of the following species within New Mexico and Arizona:

• Black-footed ferret (Mustela nigripes).

• Interior least tern (Sterna antillarum).

• Northern aplomado falcon (Falco femoralis).

• Southwestern willow flycatcher (Empidonax traillii extimus).

Permit TE-37047A

Applicant: Sea World San Antonio, San Antonio, Texas.

Applicant requests a renewal to a current permit for research and recovery purposes to conduct husbandry and holding of green sea turtles (Chelonia mydas) within the facility in Texas.

Permit TE-022329

Applicant: Mike Warton and Associates, Cedar Park, Texas.

Applicant requests a renewal to a current permit for research and recovery purposes to conduct presence/absence surveys of the following species within Texas.

• Bee Creek Cave harvestman (Texella reddelli).

• Bone Cave harvestman (Texella reyesi).

• Braken Bat Cave meshweaver (Cicurina venii).

• Coffin Cave mold beetle (Batrisodes texanus).

• Cokendolpher Cave harvestman (Texella cokendolpheri).

• Government Canyon Bat Cave meshweaver (Cicurina vespera).

• Government Canyon Bat Cave spider (Neoleptoneta microps).

• Ground beetle (Rhadine exilis).

• Ground beetle (Unnamed) (Rhadine infernalis).

• Helotes mold beetle (Batrisodes venyivi).

• Kretschmarr Cave mold beetle (Texamaurops reddelli).

• Madla Cave meshweaver (Cicurina madla).

• Robber Baron Cave meshweaver (Cicurina baronia).

• Tooth Cave ground beetle (Rhadine persephone).

• Tooth Cave pseudoscorpion (Tartarocreagris texana).

• Tooth Cave spider (Neoleptoneta (=Leptoneta) myopica).

Permit TE-33889B

Applicant: Miami University, Oxford, Ohio.

Applicant requests a new permit for research and recovery purposes to conduct presence/absence surveys of diminutive amphipod (Gammarus hyalleloides) and Noel's amphipod (Gammarus desperatus) within New Mexico and Texas.

Permit TE-30425B

Applicant: David Hagyari, Broken Arrow, Oklahoma.

Applicant requests a new permit for research and recovery purposes to conduct presence/absence surveys of American burying beetle (Nicrophorus americanus) within Oklahoma and Arkansas.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.)

Dated: May 1, 2014.
Benjamin N. Tuggle,
Regional Director, Southwest Region, U.S. Fish and Wildlife Service.

[FR Doc. 2014-11184 Filed 5-14-14; 8:45 am]

BILLING CODE 4310-55-P